DEPARTMENT OF ENERGY

Federal Energy Regulatory Commission

Combined Notice of Filings #2

Take notice that the Commission received the following electric rate filings:

Docket Numbers: ER17-1732-000.

Applicants: Midcontinent Independent System Operator, Inc.

Description: § 205(d) Rate Filing: 2017-06-01_Asset Registration Process Clean-up filing to be effective 8/1/2017.

Filed Date: 6/1/17.

Accession Number: 20170601-5119.

Comments Due: 5 p.m. ET 6/22/17.

Docket Numbers: ER17-1733-000.

Applicants: Southwest Power Pool, Inc.

Description: § 205(d) Rate Filing: Attachment AE Revisions Regarding JOUs Registered Under Combined Resource Option to be effective 8/1/2017.

Filed Date: 6/1/17.

Accession Number: 20170601-5124.

Comments Due: 5 p.m. ET 6/22/17.

Docket Numbers: ER17-1735-000.

Applicants: Pacific Gas and Electric Company.

Description: Tariff Cancellation: Notice of Termination of Silicon Valley Power IA (SA 20) to be effective 7/31/2017.

Filed Date: 6/1/17.

Accession Number: 20170601-5169.

Comments Due: 5 p.m. ET 6/22/17.

Docket Numbers: ER17-1737-000.

Applicants: PJM Interconnection, L.L.C.

Description: Tariff Cancellation: Notice of Cancellation of ICSA No. 3884; Queue No. X4-039 to be effective 5/30/2017.

Filed Date: 6/1/17.

Accession Number: 20170601-5205.

Comments Due: 5 p.m. ET 6/22/17.

Docket Numbers: ER17-1738-000.

Applicants: ITC Midwest LLC.

Description: § 205(d) Rate Filing: Notice of Cancellation of Dairyland Interconnection and Interchange Agreement to be effective 7/30/2017.

Filed Date: 6/1/17.

Accession Number: 20170601-5221.

Comments Due: 5 p.m. ET 6/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2017.
Kimberly D. Bose,
Secretary.

[FR Doc. 2017-11756 Filed 6-6-17; 8:45 am]

BILLING CODE 6717-01-P